DEPARTMENT OF COMMERCE

National Oceanic and Atmospheric Administration

50 CFR Part 648

[Docket No. 030227050-3082-02; I.D. 071003E]

Fisheries of the Northeastern United States; Spiny Dogfish Fishery; Commercial Annual Quota Harvested

AGENCY: National Marine Fisheries Service (NMFS), National Oceanic and Atmospheric Administration (NOAA), Commerce.

ACTION: Closure; commercial fishery.

SUMMARY: NMFS announces that the annual spiny dogfish commercial quota available to the coastal states from Maine through Florida for the fishing year, May 1, 2003 - April 30, 2004, has been harvested. Federally permitted commercial vessels may no longer land spiny dogfish for the duration of the fishing year (through April 30, 2004), whether fishing occurs in the Exclusive Economic Zone (EEZ) or within state waters. Regulations governing the spiny dogfish fishery require publication of this notification to advise the coastal states from Maine through Florida that the quota has been harvested and to advise vessel permit holders and dealer permit holders that no Federal commercial quota is available for landing spiny dogfish in these states.

DATES: Quota period 1 is closed effective at 0001 hrs, local time, July 18, 2003, through 2400 October 31, 2003. Quota period 2 is closed effective at 0001 hrs, local time, November 1, 2003, and remains closed through 2400 hrs local time, April 30, 2004.

FOR FURTHER INFORMATION CONTACT: Eric Jay Dolin, Fishery Policy Analyst, at (978) 281-9259, or Eric.Dolin@Noaa.gov.

SUPPLEMENTARY INFORMATION: Regulations governing the spiny dogfish fishery are found at 50 CFR part 648. The regulations require annual specification of a commercial quota, which is allocated into two quota periods based upon percentages specified in the fishery management plan. The commercial quota is distributed to the coastal states from Maine through Florida as described in § 648.230.

The initial total commercial quota for spiny dogfish for the 2003 fishing year is 4 million lb (1.81 million kg) (68 FR 19160, April 18, 2003). The commercial quota is allocated into two periods (May 1 through October 31, and November 1 through April 30). Vessel possession limits are intended to preclude directed fishing, and they are set at 600 lb (272 kg) and 300 lb (136 kg) for quota periods 1 and 2, respectively. Quota period 1 is allocated 57.9 percent of the quota (2.3 million lb (1.1 million kg)), and quota period 2 is allocated 42.1 percent (1.7 million lb (765,455 kg)) of the commercial quota. The total quota cannot be exceeded, so landings in excess of the amount allocated to quota period 1 have the effect of reducing the quota available to the fishery during quota period 2.

The Administrator, Northeast Region, NMFS (Regional Administrator) monitors the commercial spiny dogfish quota for each quota period and, based upon dealer reports, state data and other available information, determines when the total commercial quota will be harvested. NMFS is required to publish a notification in the Federal Register advising and notifying commercial vessels and dealer permit holders that, effective upon a specific date, the Federal spiny dogfish commercial quota will be harvested and no Federal commercial quota is available for landing spiny dogfish for the remainder of a given quota period.

The Regional Administrator has reviewed the performance of the 2002 fishery and the projected impact of the spiny dogfish quota for the 2003 fishing year that was recently adopted by the Atlantic States Marine Fisheries Commission (ASMFC). Before the 2003 fishing year, the ASMFC Spiny Dogfish and Coastal Shark Management Board instituted an emergency action that closed state waters to the commercial harvest, landing, and possession of spiny dogfish when a Federal closure was enacted. Thus, the Federal quota governed the spiny dogfish fishery in both the EEZ and state waters.

For the 2003 fishing year, however, the ASMFC's spiny dogfish quota is set at 8.8 million lb (4 million kg), which is significantly higher than the Federal quota. The ASFMC plan has the same quota periods as the Federal plan, and the quota is divided between those periods in the same way, with 57.9 percent (5.1 million lb; 2.3 million kg) allocated to period 1 and 42.1 percent (3.7 million lb; 1.7 million kg) allocated to period 2. The ASMFC further divided the quota among the states, with 57.9 percent allocated to Maine, New Hampshire and Massachusetts, combined, and 42.1 percent allocated to Rhode Island and states south. In addition, the ASMFC's plan allows up to a 7,000-lb (3,182-kg) possession limit. Thus, after the Federal quota is reached and the EEZ is closed, the dogfish fishery can continue to be prosecuted in state waters by vessels other than those issued Federal spiny dogfish permits until the higher ASFMC quota is reached. Some of the ASFMC member states have also voluntarily decided to apply the Federal daily possession limit of 600-lb (272 kg) of spiny dogfish throughout much of the summer, most likely up until the middle of August. Other ASMFC member states have opted to institute possession limits up to 7,000 lb (3,182 kg) immediately.

During the 2002 fishing year, the Federal dogfish quota for period 1, which began on May 1, 2002, was taken by July 1 of the same year. Based on the 2002 fishery performance and the fact that some of the states have voluntarily decided to postpone the imposition of the ASMFC's higher possession limit, while others have already instituted the higher possession limit, the Regional Administrator has determined that the period 1 Federal quota for the 2003 fishing year will be harvested by July 18, 2003. Furthermore, the Regional Administrator has determined that, once the 7,000-lb (3,182-kg) possession limit goes into effect, the remainder of the annual Federal quota will be taken in short order, certainly well before the beginning of the second quota period on November 1, 2003. Therefore, this action closes the second quota period of the Federal spiny dogfish fishery at 0001 hrs on November 1, 2003.

Section 648.4(b) provides that Federal spiny dogfish permit holders agree, as a condition of the permit, not to land spiny dogfish in any state after NMFS has published notification in the Federal Register that the commercial quota has been harvested and that no commercial quota for the spiny dogfish fishery is available. Therefore, effective 0001 hrs local time, July 18, 2003, landings of spiny dogfish in coastal states from Maine through Florida by vessels holding commercial Federal fisheries permits are prohibited through April 30, 2004, 2400 hrs local time. The fishing year 2004 quota for quota period 1 will be available for commercial spiny dogfish harvest on May 1, 2004. Effective July 18, 2003, federally permitted dealers are also advised that they may not purchase spiny dogfish from vessels issued Federal spiny dogfish permits that land in coastal states from Maine through Florida.

Classification

This action is required by 50 CFR part 648 and is exempt from review under E.O. 12866.

Authority: 16 U.S.C. 1801 et seq.

Dated: July 11, 2003.
John H. Dunnigan,
Director, Office of Sustainable Fisheries, National Marine Fisheries Service.

[FR Doc. 03-17933 Filed 7-11-03; 2:21 pm]

BILLING CODE 3510-22-S